DEPARTMENT OF DEFENSE

Defense Acquisition Regulations System

48 CFR Parts 225, 242, and 252

RIN 0750-AH26

Defense Federal Acquisition Regulation Supplement; Synchronized Predeployment and Operational Tracker (SPOT) (DFARS Case 2011-D030)

AGENCY: Defense Acquisition Regulations System, Department of Defense (DoD).

ACTION: Final rule.

SUMMARY: DoD is issuing a final rule amending the Defense Federal Acquisition Regulation Supplement (DFARS) to modify terminology and address internal contract administration requirements associated with the Synchronized Predeployment and Operational Tracker (SPOT) system.

DATES: Effective date: June 23, 2011.

FOR FURTHER INFORMATION CONTACT: Ms. Meredith Murphy, Telephone 703-602-1302.

SUPPLEMENTARY INFORMATION:

I. Background

This DFARS case updates nomenclature associated with the letter of authorization required for contractor personnel to process through a deployment center or travel to, from, or within a designated operational area (see DFARS 225.7402-3). This final rule will revise the generic letter of authorization to use the formal title of “Synchronized Predeployment and Operational Tracker (SPOT)-generated letter of authorization.” The change in title is being made at DFARS 225.7402-3(e) and in the clause at 252.225-7040, Contractor Personnel Authorized to Accompany U.S. Armed Forces Deployed Outside the United States.

In addition, the contract administration functions at DFARS 242.302 have been amended to add a requirement for DoD contract administrators, when the contract incorporates the clause at 252.225-7040, to ensure implementation of, and maintain surveillance over, contractor compliance with the SPOT business rules.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

The Regulatory Flexibility Act does not apply to this rule because an initial regulatory flexibility analysis is only required for proposed or interim rules that require publication for public comment (5 U.S.C. 603) and a final regulatory flexibility analysis is only required for final rules that were previously published for public comment, and for which an initial regulatory flexibility analysis was prepared (5 U.S.C. 604).

This final rule does not constitute a significant DFARS revision as defined at FAR 1.501-1 because this rule will not have a significant cost or administrative impact on contractors or offerors, or a significant effect beyond the internal operating procedures of the Government. Therefore, publication for public comment under 41 U.S.C. 1707 is not required.

IV. Paperwork Reduction Act

The rule does not contain any information collection requirements that require the approval of the Office of Management and Budget under the Paperwork Reduction Act (44 U.S.C. chapter 35).

List of Subjects in 48 CFR Parts 225, 242, and 252

Government procurement.

Ynette R. Shelkin,
Editor, Defense Acquisition Regulations System.

Therefore, 48 CFR parts 225, 242, and 252 are amended as follows:

1. The authority citation for 48 CFR parts 225, 242, and 252 continues to read as follows:

Authority: 41 U.S.C. 1303 and 48 CFR chapter 1.

PART 225—FOREIGN ACQUISITION

2. In section 225.7402-3, revise paragraph (e) to read as follows:

225.7402-3 Government support.

* * * * *

(e) Contractor personnel must have a Synchronized Predeployment and Operational Tracker (SPOT)-generated letter of authorization (LOA) signed by the contracting officer in order to process through a deployment center or to travel to, from, or within the designated operational area. The LOA also will identify any additional authorizations, privileges, or Government support that the contractor personnel are entitled to under the contract. For a sample LOA, see the Web site provided at PGI 225.7402-5(a)(iv).

3. In section 225.7402-5, revise paragraph (b) to read as follows:

225.7402-5 Contract clauses.

* * * * *

(b) For additional guidance on clauses to consider when using the clause at 252.225-7040, see PGI 225.7402-5(b).

PART 242—CONTRACT ADMINISTRATION AND AUDIT SERVICES

4. In section 242.302, add paragraph (a)(S-72) to read as follows:

242.302 Contract administration functions.

(a) * * *

(S-72) Ensure implementation of the Synchronized Predeployment and Operational Tracker (SPOT) by the contractor and maintain surveillance over contractor compliance with SPOT business rules available at the Web site provided at PGI 225.7402-5(a)(iv) for contracts incorporating the clause at 252.225-7040, Contractor Personnel Authorized to Accompany U.S. Armed Forces Deployed Outside the United States.

* * * * *

PART 252—SOLICITATION PROVISIONS AND CONTRACT CLAUSES

5. In section 252.225-7040, remove the clause date “(JUL 2009)” and add in its place “(JUN 2011)”, and revise paragraph (c)(4) to read as follows:

252.225-7040 Contractor Personnel Authorized To Accompany U.S. Armed Forces Deployed Outside the United States.

* * * * *

(c) * * *

(4) Contractor personnel must have a Synchronized Predeployment and Operational Tracker (SPOT)-generated letter of authorization signed by the Contracting Officer in order to process through a deployment center or to travel to, from, or within the designated operational area. The letter of authorization also will identify any additional authorizations, privileges, or Government support that Contractor personnel are entitled to under this contract.

* * * * *

[FR Doc. 2011-15373 Filed 6-22-11; 8:45 am]

BILLING CODE 5001-08-P